NATIONAL TRANSPORTATION SAFETY BOARD

Sunshine Act Meeting

AGENDA

TIME AND DATE: 9:30 a.m., Tuesday, December 11, 2018.

PLACE: NTSB Conference Center, 429 L'Enfant Plaza SW, Washington, DC 20594.

STATUS: The one item is open to the public.

MATTERS TO BE CONSIDERED: 58698 Marine Accident Report: Fire On Board US Small Passenger Vessel Island Lady, Pithlachascotee River Near Port Richey, Florida, January 14, 2018.

News Media Contact: Telephone: (202) 314-6100.

The press and public may enter the NTSB Conference Center one hour prior to the meeting for set up and seating.

Individuals requesting specific accommodations should contact Rochelle McCallister at (202) 314-6305 or by email at Rochelle.McCallister@ntsb.gov by Wednesday, December 5, 2018.

The public may view the meeting via a live or archived webcast by accessing a link under “News & Events” on the NTSB home page at www.ntsb.gov.

Schedule updates, including weather-related cancellations, are also available at www.ntsb.gov.

For More Information Contact: Candi Bing at (202) 314-6403 or by email at bingc@ntsb.gov.

For Media Information Contact: Chris O'Neil at (202) 314-6100 or by email at chris.oneil@ntsb.gov.

Dated: Friday, November 23, 2018.
LaSean McCray,
Assistant Federal Register Liaison Officer.

[FR Doc. 2018-25912 Filed 11-23-18; 11:15 am]

BILLING CODE 7533-01-P